NATIONAL FOUNDATION ON THE ARTS AND THE HUMANITIES

National Endowment for the Arts; Arts Advisory Panel

Pursuant to Section 10(a)(2) of the Federal Advisory Committee Act (Pub. L. 92-463), as amended, notice is hereby given that nine meetings of the Arts Advisory Panel to the National Council on the Arts will be held at the Nancy Hanks Center, 1100 Pennsylvania Avenue, NW., Washington, DC 20506 as follows (ending times are approximate):

Presenting (application review): May 26, 2010 by teleconference. This meeting, from 3 p.m. to 3:30 p.m. EDT, will be closed.

Folk and Traditional Arts (application review): June 3-4, 2010 in Room 716. This meeting, from 9 a.m. to 6 p.m. on June 3rd and from 9 a.m. to 5:30 p.m. on June 4th, will be closed.

Local Arts Agencies (application review): June 9-10, 2010 in Room 714. This meeting, from 9 a.m. to 5:30 p.m. on June 9th and from 9 a.m. to 2:30 p.m. on June 10th, will be closed.

Media Arts (application review): June 8-9, 2010 in Room 730. This meeting, from 9 a.m. to 6 p.m. on June 8th and from 9 a.m. to 2:30 p.m. on June 9th, will be closed.

Media Arts (application review): June 10-11, 2010 in Room 730. This meeting, from 9 a.m. to 6 p.m. on June 10th and from 9 a.m. to 2:30 p.m. on June 11th, will be closed.

Dance (application review): June 7-11, 2010 in Room 716. This meeting, from 9 a.m. to 6 p.m. on June 7th through 10th and from 9 a.m. to 3 p.m. on June 11th, will be closed.

Presenting (application review): June 17-18, 2010 in Room 716. This meeting, from 9 a.m. to 5:30 p.m. on June 17th and from 9 a.m. to 3 p.m. on June 18th, will be closed.

Opera (application review): June 21-22, 2010 in Room 714. This meeting, from 8:45 a.m. to 5:30 p.m. on June 21st and from 9 a.m. to 5:30 p.m. on June 22nd, will be closed.

Opera (application review): June 23, 2010 in Room 714. This meeting, from 8:45 a.m. to 6 p.m., will be closed.

The closed portions of meetings are for the purpose of Panel review, discussion, evaluation, and recommendations on financial assistance under the National Foundation on the Arts and the Humanities Act of 1965, as amended, including information given in confidence to the agency. In accordance with the determination of the Chairman of November 10, 2009, these sessions will be closed to the public pursuant to subsection (c)(6) of section 552b of Title 5, United States Code.

Any person may observe meetings, or portions thereof, of advisory panels that are open to the public, and if time allows, may be permitted to participate in the panel's discussions at the discretion of the panel chairman. If you need any accommodations due to a disability, please contact the Office of AccessAbility, National Endowment for the Arts, 1100 Pennsylvania Avenue, NW., Washington, DC 20506, 202/682-5532, TDY-TDD 202/682-5496, at least seven (7) days prior to the meeting.

Further information with reference to these meetings can be obtained from Ms. Kathy Plowitz-Worden, Office of Guidelines & Panel Operations, National Endowment for the Arts, Washington, DC 20506, or call 202-682-5691.

Dated: May 5, 2010.
Kathy Plowitz-Worden,
Panel Coordinator, Panel Operations, National Endowment for the Arts.

[FR Doc. 2010-11068 Filed 5-10-10; 8:45 am]

BILLING CODE 7537-01-P